DEPARTMENT OF DEFENSE

Office of the Secretary

Charter Amendment of Department of Defense Federal Advisory Committees

AGENCY: Department of Defense.

ACTION: Amendment of federal advisory committee.

SUMMARY: The Department of Defense (DoD) is publishing this notice to announce that it is amending the charter for the Defense Innovation Board (“the Board”).

FOR FURTHER INFORMATION CONTACT: Jim Freeman, Advisory Committee Management Officer for the Department of Defense, 703-692-5952.

SUPPLEMENTARY INFORMATION: The Board's charter is being amended in accordance with the Federal Advisory Committee Act (FACA) of 1972 (5 U.S.C., Appendix, as amended) and 41 CFR 102-3.50(d). The DoD is amending the charter for the Board previously announced in the Federal Register on April 18, 2018 (83 FR 17153) to reflect a change in the committee's sponsor. The Under Secretary of Defense for Research and Engineering will be the sponsor for the Board. The amended charter and contact information for the Designated Federal Officer (DFO) can be obtained at http://www.facadatabase.gov/.

Dated: June 28, 2018.
Shelly E. Finke,
Alternate OSD Federal Register Liaison Officer, Department of Defense.

[FR Doc. 2018-14262 Filed 7-2-18; 8:45 am]

BILLING CODE 5001-06-P